DEPARTMENT OF COMMERCE

Foreign-Trade Zones Board

[Order No. 1110]

Approval of Processing Activity Within Foreign-Trade Zone 37, Orange County, New York; Newburgh Dye & Printing, Inc. and Prismatic Dyeing & Finishing, Inc. (Textile Finishing)

Pursuant to its authority under the Foreign-Trade Zones Act of June 18, 1934, as amended (19 U.S.C. 81a-81u) (the Act), the Foreign-Trade Zones Board (the Board) adopts the following Order:

Whereas, the County of Orange, New York, grantee of FTZ 37, and the FTZ of Orange, Ltd., have requested authority under 15 CFR 400.32(b)(1) of the Board's regulations on behalf of Newburgh Dye & Printing, Inc., and Prismatic Dyeing & Finishing, Inc., to process foreign textile products for the U.S. market and export under zone procedures, subject to restriction, within FTZ 37 (filed 4-26-2000, FTZ Docket 15-2000);

Whereas, pursuant to 15 CFR 400.32(b)(1), the Commerce Department's Assistant Secretary for Import Administration has the authority to act for the Board in making such decisions on new manufacturing/processing activity under certain circumstances, including situations where the proposed zone benefits being sought do not involve the election of nonprivileged foreign status on foreign textile products (15 CFR 400.32(b)(1)(iii)); and,

Whereas, the application seeks FTZ authority for only the following processes: Dyeing, printing, shrinking, sanferizing, desizing, sponging, bleaching, cleaning/laundering, calendaring, hydroxilating, decatizing, fulling, mercerizing, chintzing, moiring, framing/beaming, stiffening, weighting, crushing, tubing, thermofixing, anti-microbial finishing, shower proofing, flame retardation, and embossing; and,

Whereas, the FTZ Staff has reviewed the proposal, taking into account the criteria of 15 CFR 400.31, and the Executive Secretary has recommended approval;

Now, therefore, the Assistant Secretary for Import Administration, acting for the Board pursuant to 15 CFR 400.32(b)(1), concurs in the recommendation and hereby approves the request subject to the Act and the Board's regulations, including 15 CFR 400.28, and further subject to the restrictions listed below.

1. Privileged foreign status (19 CFR 146.41) shall be elected on all foreign status fabric admitted to FTZ 37 for the Newburgh Dye & Printing, Inc., and Prismatic Dyeing & Finishing, Inc., activity;

2. No activity under FTZ procedures shall be permitted that would result in a shift in HTSUS classification or a change in textile quota classification or country of origin; and,

3. All FTZ activity shall be subject to Section 146.63(d) of the U.S. Customs Service regulations (19 CFR part 146).

Signed at Washington, DC, this 11th day of July 2000.
Troy H. Cribb,
Acting Assistant Secretary of Commerce for Import Administration, Alternate Chairman, Foreign-Trade Zones Board.
Attest:
Dennis Puccinelli,
Executive Secretary.

[FR Doc. 00-18415 Filed 7-19-00; 8:45 am]

BILLING CODE 3510-DS-P